DEPARTMENT OF LABOR

Employment and Training Administration

[NAFTA 6206]

IEC Electronics Corporation, Newark, NY; Notice of Termination of Investigation

Pursuant to Title V of the North American Free Trade Agreement Implementation Act (Pub. L. 103-182) concerning transitional adjustment assistance, hereinafter called NAFTA-TAA and in accordance with Section 250(a), Subchapter 2, Title II, of the Trade Act of 1974, as amended (19 U.S.C. 2331), an investigation was initiated on May 14, 2002, in response to a petition filed on behalf of workers at IEC Electronics Corporation, Newark, New York. The workers produce printed circuit boards.

A negative determination applicable to the petitioning group of workers was issued on March 27, 2002 (NAFTA-5649). No new information is evident which would result in a reversal of the Department's previous determination. Consequently, further investigation in this case would serve no purpose, and the investigation has been terminated.

Signed in Washington, DC this 5th day of June 2002.
Linda G. Poole,
Certifying Officer, Division of Trade Adjustment Assistance.

[FR Doc. 02-18075 Filed 7-17-02; 8:45 am]

BILLING CODE 4510-30-P